DEPARTMENT OF AGRICULTURE

Agricultural Marketing Service

7 CFR Part 923

[Docket Nos. AO-F&V-923-3; FV03-923-01]

Sweet Cherries Grown in Designated Counties in Washington; Secretary's Decision and Referendum Order on Proposed Amendments to Marketing Agreement and Order No. 923; Correction

AGENCY: Agricultural Marketing Service, USDA.

ACTION: Proposed rule and referendum order; correction.

SUMMARY: The Agricultural Marketing Service published in the Federal Register on January 14, 2005, a Secretary's Decision and Referendum Order on proposed amendments to the Washington sweet cherry marketing order. This docket corrects the representative period for voting in the referendum from April 1, 2003, through March 31, 2004, to April 1, 2004, through February 28, 2005.

FOR FURTHER INFORMATION CONTACT: Melissa Schmaedick, Marketing Order Administration Branch, Fruit and Vegetable Programs, Agricultural Marketing Service, USDA, Post Office Box 1035, Moab, UT 84532, telephone: (435) 259-7988, fax: (435) 259-4945.

SUPPLEMENTARY INFORMATION:

Background

The Secretary's decision and referendum order that are the subject of this correction propose amendments to the marketing agreement and order (order) and provide growers with the opportunity to vote in a referendum to determine if they favor the proposed amendments.

Need for Correction

As published, the representative period for the purpose of the referendum is being changed from April 1, 2003, through March 31, 2004, to April 1, 2004, through February 28, 2005, to reflect the most recent crop year.

Correction of Publication

Accordingly, the publication of the proposed rule and referendum order (Docket Nos. AO-F&V-923-3; FV03-923-01), which was the subject of FR Doc. 05-825 published on January 14, 2005 (70 FR 2573) is corrected as follows:

1. On page 2574, column one, under DATES; the dates “April 1, 2003, through March 31, 2004,” are corrected to read “April 1, 2004, through February 28, 2005.”

Authority: 7 U.S.C. 601-674.

Dated: February 3, 2005.
Kenneth C. Clayton,
Acting Administrator, Agricultural Marketing Service.

[FR Doc. 05-2388 Filed 2-7-05; 8:45 am]

BILLING CODE 3410-02-P